DEPARTMENT OF HEALTH AND HUMAN SERVICES

Food and Drug Administration

Clinical Pharmacology Subcommittee of the Advisory Committee for Pharmaceutical Science; Notice of Meeting; Correction

AGENCY: Food and Drug Adminstration, HHS.

ACTION: Notice; correction.

SUMMARY: The Food and Drug Administration (FDA) is correcting a notice that appeared in the Federal Register of April 3, 2003 (68 FR 16292). The notice announced a meeting of the Clinical Pharmacology Subcommittee of the Advisory Committee for Pharmaceutical Science, which was scheduled for April 22-23, 2003. The document was published with an error. This document corrects that error.

FOR FURTHER INFORMATION CONTACT: Joyce Strong, Office of Policy (HF-27), Food and Drug Administration, 5600 Fishers Lane, Rockville, MD 20857, 301-827-7010.

SUPPLEMENTARY INFORMATION: In FR Doc. 03-8011, appearing on page 16292 in the Federal Register of Thursday, April 3, 2003, the following correction is made:

1. On page 16292, in the first column, in the “Location” section, “5600” is corrected to read “5630”.

Dated: April 10, 2003.
Linda Arey Skladany,
Associate Commissioner for External Relations.

[FR Doc. 03-9384 Filed 4-16-03; 8:45 am]

BILLING CODE 4160-01-S